DEPARTMENT OF THE INTERIOR

Bureau of Land Management

[CO-700-00-5440-00-C023]

DEPARTMENT OF AGRICULTURE

Forest Service

Notice of Availability

AGENCY: Bureau of Land Management, Interior; Forest Service, Agriculture.

Responsible Officials:

Ann Morgan, State Director, Colorado State Office, Bureau of Land Management, 2850 Youngfield, Denver, CO 80215.

Robert L. Storch, Forest Supervisor, Grand Mesa, Uncompahgre and Gunnison National Forests, U.S. Forest Service, 2250 US Hwy 50, Delta, CO 81416.

ACTION: Notice of Availability of North Fork Coal Final Environmental Impact Statement (FEIS) for the Iron Point Coal Exploration License application (COC61945), Iron Point Coal Lease Tract application (COC61209) and the Elk Creek Coal Lease Tract application (COC61357) of Federal coal reserves in Delta and Gunnison Counties, Colorado.

SUMMARY: Pursuant to 40 CFR 1500-1508, the Bureau of Land Management (BLM) and the USDA Forest Service (FS) announce the availability of the North Fork Coal FEIS for the Iron Point and Elk Creek Coal Lease Tracts for competitive leasing and the Iron Point Coal Exploration license for exploration drilling in accordance with 43 CFR 3425 and 3410.

DATES: The FEIS is scheduled to be available to the public on February 25, 2000. Separate Records of Decision (one for each application by each agency) will be signed after the 30 day availability period ends on March 27, 2000.

ADDRESSES: Please address questions on the FEIS to the Bureau of Land Management, Attn: Jerry Jones, 2465 South Townsend Ave., Montrose, CO, 81401.

FOR FURTHER INFORMATION CONTACT: Jerry Jones at the above address, or phone number 970-240-5338, or fax number 970-240-5368. E-mail can be sent to Jerry_Jones@co.blm.gov.

SUPPLEMENTARY INFORMATION: As a result of two applications for coal leasing and one application for a coal exploration license, the following lands were analyzed in this EIS.

T. 12 S., R. 90 W., 6th P.M.

Sec. 31, lots 1 to 14, inclusive, and NE¼;

Sec. 32, lots 3 to 6, inclusive, lots 11 to 14, inclusive, and NW¼.

T. 12 S., R. 91 W., 6th P.M.

Sec. 14, lots 7,8, S½S½, NE¼SW¼, NW¼SE¼;

Sec. 22, S½;

Sec. 23, lots 1 to 7, inclusive, W½, and that part of HES No. 133 lying in the S½SE¼;

Sec. 26, lots 1 to 5, inclusive, W½, N½SE¼, that part of HES No. 133 lying in the NE¼ and that part of HES No. 134 lying in the SE¼;

Sec. 27, all;

Sec. 28, S½;

Sec. 29, SE¼;

Sec. 32, lots 1, 2, 7 to 10, inclusive, lots 15, 16, and NE¼;

Sec. 33, lots 1 to 16, inclusive, and N½;

Sec. 34, lots 1 to 16, inclusive, and N½;

Sec. 35, lots 1 to 22, that part of HES No. 134 lying in the NE¼; N½NW¼, and SW¼NW¼.

Sec. 36, lots 1 to 17, inclusive, NE¼, E½NW¼, SW¼NW¼, and that part of HES No.134 lying in lot 1.

T. 13 S., R. 90 W., 6th P.M.

Sec. 5, lots 6 to 11, inclusive and lot 15; Sec. 6, lots 8 to 17, inclusive.

T. 13 S., R. 91 W., 6th P.M.

Sec. 1, lots 1 to 4, inclusive, S½NW¼ and SW¼;

Sec. 2, lot 1, and S½NE¼, SW¼NW¼, NW¼SW¼, and E½SW¼;

Sec. 3, lots 1 to 4, inclusive, S½N½, and N½S½;

Sec. 4, lots 1 to 4, inclusive, S½N½, and S½;

Sec. 5, lots 11 and 12, SE¼, E½SW¼, SW¼NE¼, and SE¼NW¼;

Sec. 8, NE¼;

Sec. 9, NW¼, and N½SW¼;

Sec. 11, NE¼NW¼.

Sec. 12, S½NE¼, and NW¼.

Bowie Resources, Ltd. and Oxbow Mining, Inc. applied to the BLM for the Iron Point and Elk Creek coal lease tracts respectfully to extend the production life of their existing underground mines. Similarly, Bowie applied to the BLM for a coal exploration license to further delineate coal resource in lands adjacent to their ongoing mining. The requested Iron Point Tract and the exploration license area are adjacent to the presently approved permit area for the Bowie No. 2 Mine which is operated by Bowie. Likewise, the requested Elk Creek Tract is adjacent to the presently approved permit area for the Sanborn Creek Mine which is operated by Oxbow. These applications encompass federal coal on BLM and National Forest system lands. The federal coal resource to be offered is limited to coal recoverable by underground mining methods.

The USDA Forest Service is a joint lead agency in the preparation of the EIS because the surface of some of the land in the applications is administered by the Forest Service. The Office of Surface Mining Reclamation and Enforcement is a cooperating agency in the preparation of the EIS because it is the Federal agency that would review the mining plans for the two proposed tracts if they are leased, and recommend approval or disapproval of the mining plans to the Secretary of the Interior.

The EIS analyzes four alternatives. Besides the no-action alternative and the plans as submitted in the applications, two other alternatives were examined in the EIS. The other alternatives analyzed the possibility of multiseam mining and the restriction of subsidence due to underground mining activity in key areas to protect surface resources.

The DEIS was filed on September 3, 1999 and the DEIS comment period extended through November 3, 1999. An informal open house was held on October 7, 1999 and a public hearing was held on October 14, 1999 at Hotchkiss High School in Hotchkiss, Colorado.

Freedom of Information

Comments, including names and street addresses of respondents, will be available for public review at the addresses listed above during regular business hours (7:45 a.m.-4:30 p.m.), Monday through Friday, except holidays, and may be published as part of the Final EIS. Individual respondents may request confidentiality. If you wish to withhold your name or street address from public review or from disclosure under the Freedom of Information Act, you must state this prominently. Such requests will be honored to the extent allowed by law. All submissions from organizations or businesses, and from individuals identifying themselves as representatives or officials of organizations or businesses, will be made available for public inspection in their entirety. Proprietary data so marked shall be treated in accordance with the laws and regulations governing the confidentiality of such information.

Dated: February 11, 2000.
Jerry Jones,
EIS Project Manager, Bureau of Land Management.
Robert L. Storch,
Forest Supervisor, Grand Mesa, Uncompahgre, Gunnison National Forest.

[FR Doc. 00-4331 Filed 2-24-00; 8:45 am]

BILLING CODE 4310-JB-P